FEDERAL COMMUNICATIONS COMMISSION

47 CFR Part 73

[GN Docket No. 16-142; FCC 23-11; FR ID 130372]

Authorizing Permissive Use of the “Next Generation” Broadcast Television Standard

AGENCY: Federal Communications Commission.

ACTION: Final rule; stay of effectiveness.

SUMMARY: In this document, the Federal Communications Commission (“FCC” or “Commission”) announces that it has temporarily stayed the March 6, 2023 sunset of the requirement for broadcaster primary streams to comply with the ATSC A/322 standard.

DATES: This rule is effective April 5, 2023. Effective April 5, 2023, 47 CFR 73.682(f)(2)(iii) is stayed indefinitely.

FOR FURTHER INFORMATION CONTACT: For additional information, contact Evan Baranoff, Evan.Baranoff@fcc.gov, of the Media Bureau, Policy Division, (202) 418-7142. Direct press inquiries to Janice Wise at (202) 418-8165.

SUPPLEMENTARY INFORMATION: This is a summary of the Commission's Order, FCC 23-11, adopted on March 3, 2023 and released on March 6, 2023. The full text of this document is available electronically via the FCC's website at https://docs.fcc.gov/public/attachments/FCC-23-11A1.pdf or at https://www.fcc.gov/ecfs. (Documents will be available electronically in ASCII, Microsoft Word, and/or Adobe Acrobat.) Alternative formats are available for people with disabilities (Braille, large print, electronic files, audio format), by sending an email to fcc504@fcc.gov or calling the Commission's Consumer and Governmental Affairs Bureau at (202) 418-0530 (voice), (202) 418-0432 (TTY).

Synopsis

1. By this document the Commission temporarily stays the March 6, 2023 sunset of the requirement for broadcaster primary streams to comply with the ATSC A/322 standard.¹

¹ 47 CFR 73.682(f) (requiring that, until March 6, 2023, the transmission of at least one free over the air primary video programming stream comply with the ATSC A/322). The rule, including the sunset date, was established in the First Next Gen TV Report and Order, 83 FR 4998.

2. In 2017, the Commission authorized television broadcasters to use the Next Gen TV transmission standard, also called “ATSC 3.0” or “3.0,” on a voluntary, market-driven basis. Under Commission rules, the requirement for broadcaster primary streams to comply with the ATSC A/322 standard, defining the waveforms that ATSC 3.0 signals may take, was scheduled to sunset on March 6, 2023. Last June, we issued the Sunsets further notice of proposed rulemaking (FNPRM) (87 FR 40465, July 7, 2022) seeking comment on, among other things, the expiration of this rule, whether to retain the requirement and, if so, for how long. That proceeding remains pending.

3. For the reasons set forth herein, we find good cause to stay, on our own motion, the expiration of this rule pending a Commission resolution of this issue in the above-referenced proceeding. In considering a stay, the Commission considers the four criteria set forth in Virginia Petroleum Jobbers Association.²

² Virginia Petroleum Jobbers Ass'n v. Federal Power Commission, 259 F.2d 921, 925 (D.C. Cir. 1958). See also Implementation of Sections 309(j) and 337 of the Communications Act of 1934 as Amended, Order, 18 FCC Rcd 25491, 25494, para. 6 (2003) (73 FR 21843, April 23, 2008) (PLMR Narrowband Stay Order). As described in the PLMR Narrowband Stay Order, these criteria are (1) a likelihood of success on the merits; (2) the threat of irreparable harm absent the grant of preliminary relief; (3) the degree of injury to other parties if relief is granted; and (4) the issuance of the order will further the public interest.

4. We conclude that an interim stay of the A/322 “sunset” is appropriate under the circumstances. Virtually all commenters addressing this question made arguments in favor of at least a temporary extension of the requirement to comply with A/322. It is unclear whether any consumer receive equipment could display 3.0 signals that were noncompliant with A/322, meaning the viewing public could lose all 3.0 service during any period of noncompliance by broadcasters. Furthermore, there is no information in the record indicating that any party will be harmed by the grant of an interim stay.³ In light of the arguments offered by commenters for at least a temporary extension, the possibility of harm to the viewing public from the disruption of eliminating and then potentially resuming the requirement, and the lack of any reasonable expectation of sunset by those currently deploying 3.0 service in light of the pendency of this proceeding, we find the public interest is best served by preserving the status quo during this brief period of time in order to consider this open question.

³ The only commenter in the record supporting an immediate sunset of this requirement identified no harms associated with this specific rule.

5. We therefore stay the sunset of the A/322 rule, pending resolution of the Sunsets FNPRM.

6. Accordingly, it is ordered, that, pursuant to sections 1, 4(i), 4(j), and 303 of the Communications Act of 1934, as amended, 47 U.S.C. 151, 154(i), 154(j), 303 and § 1.103 of the Commission's rules, 47 CFR 1.103, § 73.682(f)(2) of the Commission's rules, 47 CFR 73.682(f)(2), is amended as set forth in the amendments at the end of this document and § 73.682(f)(2)(iii) of the Commission's rules, 47 CFR73.682(f)(2)(iii), is stayed effective immediately.

List of Subjects in 47 CFR Part 73

Communications equipment, Television.

Federal Communications Commission.
Marlene Dortch,
Secretary.

For the reasons stated in the preamble, the Federal Communications Commission amends 47 CFR part 73 as set forth below:

PART 73—RADIO BROADCAST SERVICES

1. The authority citation for part 73 continues to read as follows:

Authority: 47 U.S.C. 154, 155, 301, 303, 307, 309, 310, 334, 336, 339.

2. Section 73.682 is amended by:

a. Revising paragraph (f)(2); and

b. Staying paragraph (f)(2)(iii) indefinitely.

The revision reads as follows:

§ 73.682 TV transmission standards.

* * * * *

(f) * * *

(2)(i) Effective March 5, 2018, transmission of Next Gen TV broadcast television (ATSC 3.0) signals shall comply with the standards for such transmissions set forth in ATSC A/321:2016, “System Discovery and Signaling” (March 23, 2016) (incorporated by reference, see § 73.8000). To the extent that virtual channels (specified in the DTV transmission standard referenced in ATSC A/65C:2006 in paragraph (d) of this section) are used in the transmission of Next Gen TV broadcasting, major channel numbers shall be assigned as required by ATSC A/65C:2006 Annex B (incorporated by reference, see § 73.8000).

(ii) In addition, such signals shall also comply with the standards set forth in ATSC A/322:2017 “Physical Layer Protocol” (June 6, 2017) (incorporated by reference, see § 73.8000) with respect to the transmission of at least one free over the air primary video programming stream.

(iii) Paragraph (f)(2)(ii) of this section will sunset on March 6, 2023.

* * * * *

[FR Doc. 2023-05047 Filed 4-3-23; 11:15 am]

BILLING CODE 6712-01-P